ENVIRONMENTAL PROTECTION AGENCY

[EPA-HQ-ORD-2006-0270; FRL-8238-6]

Agency Information Collection Activities; Submission to OMB for Review and Approval; Comment Request; Contribution of Household Activities to the Health of Urban Ecosystems; EPA ICR No. 2223.01

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request or a new collection. The ICR, which is abstracted below, describes the nature of the information collection and its estimated burden and cost.

DATES: Additional comments may be submitted on or before December 4, 2006.

ADDRESSES: Submit your comments, referencing Docket ID No. EPA-HQ-ORD-2006-0270, to (1) EPA online using www.regulations.gov (our preferred method), by e-mail to ord.docket@epa.gov, or by mail to: EPA Docket Center, Environmental Protection Agency, Office of Research and Development Docket, Mailcode 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Anita Morzillo, Office of Research and Development, Environmental Protection Agency, 200 SW. 35th St., Corvallis, OR 97333; telephone number: 541-754-4738; fax number: 541-754-4299; morzillo.anita@epa.gov.

SUPPLEMENTARY INFORMATION: EPA has submitted the following ICR to OMB for review and approval according to the procedures prescribed in 5 CFR 1320.12. On July 24, 2006 (71 FR 41800), EPA sought comments on this ICR pursuant to 5 CFR 1320.8(d). EPA received 1 comment during the comment period, which is addressed in the ICR. Any additional comments on this ICR should be submitted to EPA and OMB within 30 days of this notice.

EPA has established a public docket for this ICR under Docket ID No. EPA-HQ-ORD-2006-0270, which is available for online viewing at www.regulations.gov, or in person viewing at the Office of Research and Development Docket in the EPA Docket Center (EPA/DC), EPA West, Room B102, 1301 Constitution Ave., NW., Washington, DC. The EPA/DC Public Reading Room is open from 8 a.m. to 4:30 p.m., Monday through Friday, excluding legal holidays. The telephone number for the Reading Room is 202-566-1744, and the telephone number for the Office of Research and Development Docket is 202-566-1752.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, CBI, or other information whose public disclosure is restricted by statute. For further information about the electronic docket, go to www.regulations.gov.

Title: Contribution of Household Activities to the Health of Urban Ecosystems.

ICR numbers: EPA ICR No. 2223.01.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: As part of the EPA's Sustainability Initiative, this research focuses on maintaining healthy urban ecosystems for both people and other species. The goal is to better understand whether people recognize how household activities affect the surrounding environment, most notably the wildlife that is dependent on these systems, and whether people are likely to change their behaviors once they learn about household-environment linkages. The specific topic of interest is household rodenticide use, and resident awareness of how inexpert use of rodenticides may result in mortality of non-target species. The two study areas are (1) the southwestern quadrant of Bakersfield, and (2) portions of Thousand Oaks, Agoura Hills, Calabasas, and Westlake Village, California. The most effective way to gather detailed information about household rodenticide use is to directly ask residents within the locations of interest. A voluntary mail survey will be used, and all respondent identities and individual responses will remain confidential to the extent allowed by law. This information will provide the EPA with a better understanding about how people relate to their personal impacts on the environment, and will lead to improved communication between members of the general public, environmental regulators, and resource managers. The end result will be more effective and appropriately targeted environmental regulation.

Burden Statement: The annual public reporting and recordkeeping burden for this collection of information is estimated to average 0.33 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Individuals or households, businesses or other for-profit.

Estimated Number of Respondents: 10,000.

Frequency of Response: One time response.

Estimated Total Annual Hour Burden: 3,300.

Estimated Total Annual Cost: $86,425, which includes $0 in capital or O&M.

Dated: October 26, 2006.
Oscar Morales,
Director, Collection Strategies Division.

[FR Doc. E6-18492 Filed 11-1-06; 8:45 am]

BILLING CODE 6560-50-P